DEPARTMENT OF COMMERCE

National Oceanic and Atmospheric Administration

[RTID 0648-XG233]

Red Hake Stock Structure Research Track Assessment Public Meeting

AGENCY: National Marine Fisheries Service (NMFS), National Oceanic and Atmospheric Administration (NOAA), Commerce.

ACTION: Notice of public meeting.

SUMMARY: NMFS and the Assessment Oversight Panel will convene the Red Hake Stock Structure Research Track Assessment Peer Review Meeting for the purpose of reviewing the stock structure of Red Hake. The Research Track Assessment Peer Review is a formal scientific peer-review process for evaluating and presenting stock assessment results to managers for fish stocks in the offshore U.S. waters of the northwest Atlantic. Assessments are prepared by Stock Assessment Workshop (SAW) working groups and reviewed by an independent panel of stock assessment experts called the Assessment Oversight Panel (AOP). The public is invited to attend the presentations and discussions between the review panel and the scientists who have participated in the stock assessment process.

DATES: The public portion of the Red Hake Stock Structure Research Track Assessment Peer Review Meeting will be held from March 9, 2020-March 12, 2020. The meeting will commence on March 12, 2020 at 5:00 p.m. Eastern Standard Time. Please see SUPPLEMENTARY INFORMATION for the daily meeting agenda.

ADDRESSES: The meeting will be held in Stephen H. Clark Conference Room in the Aquarium Building of the National Marine Fisheries Service, Northeast Fisheries Science Center (NEFSC), 166 Water Street, Woods Hole, MA 02543.

FOR FURTHER INFORMATION CONTACT: Michele Traver, 508-495-2195; email: michele.traver@noaa.gov.

SUPPLEMENTARY INFORMATION: For further information, please visit the NEFSC website at https://www.fisheries.noaa.gov/region/new-england-mid-atlantic. For additional information about the AOP meeting and the stock assessment peer review, please visit the NMFS/NEFSC SAW web page at https://www.fisheries.noaa.gov/new-england-mid-atlantic/population-assessments/northeast-region-stock-assessment-process.

Daily Meeting Agenda—Red Hake Stock Structure Research Track Peer Review Meeting (Subject to Change; All times are approximate and may be changed at the discretion of the Peer Review Chair).

Time | Activity | Lead
Monday, March 9, 2020
1 p.m.-1:30 p.m | Welcome/Logistics Introductions/Process | Michele Traver/Chair (TBD).
1:30 p.m.-2:30 p.m | Review of Current Assessment and Historical Designations (TOR #1) | Toni Chute/Dave Richardson (WG Chair).
2:30 p.m.-3:30 p.m | New Data and Analyses (TOR #2) | Dave Richardson (WG Chair).
3:30 p.m.-3:45 p.m | Break
3:45 p.m.-5:00 p.m | New Data and Analyses (TOR #2) cont | Dave Richardson (WG Chair).
5:00 p.m.-5:30 p.m | Review/Discussion/Summary | Review Panel.
5:30 p.m.-5:45 p.m | Public Comment | Public.
5:45 p.m | Adjourn
Tuesday, March 10, 2020
8:30 a.m.-8:45 a.m | Brief Overview and Logistics | Michele Traver/Chair (TBD).
8:45 a.m.-10:45 a.m | New Data and Analyses (TOR #2) cont | Dave Richardson, WG Chair.
10:45 a.m.-11:00 a.m | Break
11:00 a.m.-12:30 p.m | Catchability (TOR #4) | Dave Richardson, WG Chair.
12:30 p.m.-1:30 p.m | Lunch
1:30 p.m.-3:30 p.m | Stock Structure Proposals (TOR #3) | Dave Richardson, WG Chair.
3:30 p.m.-3:45 p.m | Break
3:45 p.m.-5:00 p.m | Stock Structure Proposals (TOR #3) cont | Dave Richardson, WG Chair.
5:00 p.m.-5:30 p.m | Review/Discussion/Summary | Review Panel.
5:30 p.m.-5:45 p.m | Public Comment | Public.
5:45 p.m | Adjourn
7:00 p.m | Dinner Social | TBD.
Wednesday, March 11, 2020
8:30 a.m.-8:45 a.m | Brief Overview and logistics | Michele Traver/Chair (TBD).
8:45 a.m.-10:45 a.m | Model Proposals (TOR #5) | Dave Richardson, WG Chair.
10:45 a.m.-11:00 a.m | Break
11:00 a.m.-12:00 p.m | Research Recommendations (TOR #6) | Dave Richardson, WG Chair.
12:00 p.m.-12:30 p.m | Review/Discussion/Summary | Review Panel.
12:30 p.m.-12:45 p.m | Public Comment | Public.
12:45 p.m.-1:45 p.m | Lunch
1:45 p.m.-5:00 p.m | Report Writing | Review Panel.
5:00 p.m | Adjourn
Thursday, March 12, 2020
9:00 a.m.-5:00 p.m | Report Writing | Review Panel.

The meeting is open to the public; however, during the `Report Writing' session on Wednesday, March 11th, and Thursday, March 12th, the public should not engage in discussion with the Peer Review Panel.

Special Accommodations

This meeting is physically accessible to people with disabilities. Special requests should be directed to Michele Traver, 508-495-2195, at least 5 days prior to the meeting date.

Dated: January 2, 2020.
Jennifer M. Wallace,
Acting Director, Office of Sustainable Fisheries, National Marine Fisheries Service.

[FR Doc. 2020-00029 Filed 1-6-20; 8:45 am]

BILLING CODE 3510-22-P